ENVIRONMENTAL PROTECTION AGENCY

[ER-FRL-9021-8]

Environmental Impact Statements; Notice of Availability

Responsible Agency: Office of Federal Activities, General Information (202) 564-7146 or http://www2.epa.gov/nepa.

Weekly receipt of Environmental Impact Statements (EISs)

Filed 06/29/2015 Through 07/03/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150182, Final, VA, CA, San Francisco Veterans Affairs Medical Center Long Range Development Plan, Review Period Ends: 08/09/2015, Contact: Robin Flanagan 415-750-2049.

EIS No. 20150183, Final, HUD, CA, Sunnydale-Velasco HOPE SF Master Plan Project, Review Period Ends: 08/10/2015, Contact: Eugene Flannery 415-701-5598.

EIS No. 20150184, Draft, USFS, MT, Telegraph Vegetation Project, Comment Period Ends: 08/24/2015, Contact: Allen Byrd 406-449-5201.

EIS No. 20150185, Draft Supplement, USACE, NC, Figure Eight Island Shoreline Management Project Comment Period Ends: 08/24/2015, Contact: Mickey Sugg 910-251-4811.

EIS No. 20150186, Draft, USACE, CA, Redwood City Harbor Navigation Improvement, Comment Period Ends: 08/24/2015, Contact: Eric Jolliffe 415-503-6869.

EIS No. 20150187, Final, USFS, CA, Master Special Use Permit and Permit to Construct Power Line Replacement Projects, Review Period Ends: 08/24/2015, Contact: Jeff Heys 858-674-2959.

EIS No. 20150188, Final, USACE, SC, Charleston Harbor Post 45, Review Period Ends: 08/10/2015, Contact: Bret Walters 843-329-8050.

Amended Notices

EIS No. 20150061, Draft, CALTRANS, CA, SR 710 North Improvements, Comment Period Ends: 08/05/2015, Contact: Garrett Damrath 213-897-0357 Revision to FR Notice Published 03/13/2015; Extending Comment Period from 07/06/2015 to 08/05/2015.

EIS No. 20150109, Draft, STB, MT, Tongue River Railroad, Comment Period Ends: 08/24/2015, Contact: Ken Blodgett 1-866-622-4355 Revision to FR Notice Published 04/24/2015; Extending Comment Period from 06/23/2015 to 08/24/2015.

EIS No. 20150151, Draft, USFS, CO, Spruce Beetle Epidemic and Aspen Decline Management Response, Comment Period Ends: 07/31/2015, Contact: Scott Williams 760-382-7371 Revision to FR Notice Published 05/29/2015; Extending Comment Period from 07/14/2015 to 07/31/2015.

Dated: July 7, 2015.
Karin Leff,
Acting Director, NEPA Compliance Division, Office of Federal Activities.

[FR Doc. 2015-16938 Filed 7-9-15; 8:45 am]

BILLING CODE 6560-50-P